DEPARTMENT OF COMMERCE

International Trade Administration

[A-351-806]

Silicon Metal from Brazil: Amended Final Results of Administrative Review Pursuant to Court Decision

AGENCY: Import Administration, International Trade Administration, Department of Commerce.

EFFECTIVE DATE: April 21, 2010.

FOR FURTHER INFORMATION CONTACT: Thomas Martin, AD/CVD Operations, Office 4, Import Administration, International Trade Administration, U.S. Department of Commerce, 14th Street and Constitution Avenue, NW, Washington, DC 20230; telephone: 202-482-3936.

SUPPLEMENTARY INFORMATION:

Background

This matter arose from a challenge to the Final Results issued by the Department of Commerce (“the Department”) regarding the administrative review of the antidumping duty order on Silicon Metal from Brazil for the period of review beginning July 1, 1996, through June 30, 1997. See Silicon Metal from Brazil: Notice of Final Results of Antidumping Duty Administrative Review, 64 FR 6305 (February 9, 1999) (“Final Results”). Following publication of the Final Results, the petitioners¹ and the respondents Eletrosilex S.A. (“Eletrosilex”) and Ligas de Aluminio S.A. filed lawsuits with the Court of International Trade (“CIT”) challenging the Department's Final Results. Eletrosilex contested the Department's application of total adverse facts available (“AFA”) to Eletrosilex, and the Department's selected AFA rate of 93.20 percent.

¹ The petitioners are American Silicon Technologies, Elkem Metals Company, Globe Metallurgical, Inc. and SKW Metals & Alloys, Inc.

On July 17, 2000, the CIT issued its decision, remanding the Final Results to the Department to reconsider its determination to apply AFA to Eletrosilex and the rate which the Department selected as AFA. See American Silicon Technologies v. United States, 110 F. Supp. 2d 992, 1004-5 (2000). On January 29, 2001, the Department submitted remand results to the CIT. See “Silicon Metal From Brazil; Final Results of Redetermination Pursuant to Court Remand, Ct. No. 99-00149.” In the remand results, the Department considered its determination and reached the same conclusions as regards applying AFA to Eletrosilex, and the appropriate rate to select as AFA, as it did in the Final Results.

On October 17, 2002, the CIT issued its decision, affirming the Department's determination to apply AFA to Eletrosilex but remanding to the Department to redetermine an AFA rate. See American Silicon Technologies v. United States, 240 F. Supp. 2d 1306, 1313 (2002). Pursuant to the CIT's remand instructions, the Department submitted remand results to the CIT on January 22, 2003. See “Silicon Metal From Brazil; Final Results of Redetermination Pursuant to Court Remand” (“Second Remand Results”). The Department selected as AFA for Eletrosilex a margin of 67.93 percent, a margin calculated for another respondent in the administrative review of silicon metal from Brazil for the period July 1, 1994, through June 30, 1995. See Silicon Metal from Brazil, Final Results of Redetermination Pursuant to Court Remand, American Silicon Technologies v. United States, Court No. 97-02-00267, Slip. Op. 99-34. On June 27, 2003, the CIT sustained the Second Remand Results. See American Silicon Technologies v. United States, 273 F. Supp. 2d 1342 (2003). However, on October 30, 2003, pursuant to a motion by Eletrosilex, the CIT stayed further action pending the results of litigation regarding the administrative review of silicon metal from Brazil for the 94/95 period of review. See American Silicon Technologies v. United States, 27 C.I.T. 1677; 2003 Ct. Intl. Trade LEXIS 147 (2003). On May 13, 2004, the CIT sustained the Department's remand results regarding the 94/95 period of review. See American Silicon Technologies v. United States, 28 C.I.T. 698; 2004 Ct. Intl. Trade LEXIS 49 (2004). That decision was not appealed.

On January 27, 2010, the CIT dissolved the stay of its June 27, 2003 judgment. As there is now a final and conclusive court decision in this case, we are amending our Final Results.

Amended Final Results

As the litigation in this case has concluded, the Department is amending the Final Results in accordance with the CIT's decision. The revised dumping margin for Eletrosilex is as follows:

Manufacturer/Exporter | Margin
Eletrosilex S.A. | 67.93%

The Department intends to issue instructions to U.S. Customs and Border Protection to liquidate all entries at the appropriate rates for the company listed above, 15 days after the date of publication of this notice.

This notice is published in accordance with sections 751(a)(1) and 777(i) of the Tariff Act of 1930, as amended.

Dated: April 15, 2010.
Ronald K. Lorentzen,
Deputy Assistant Secretary for Import Administration.

[FR Doc. 2010-9175 Filed 4-20-10; 8:45 am]

BILLING CODE 3510-DS-S